DEPARTMENT OF COMMERCE

Foreign-Trade Zones Board

Foreign-Trade Zone 119 - Minneapolis, Minnesota, Site Renumbering Notice

Foreign-Trade Zone 119 was approved by the FTZ Board on July 24, 1985 (Board Order 305, 50 F.R. 3l405, 8/2/85), and expanded on April 14, 1994 (Board Order 690, 59 F.R. 19692, 4/25/94), and on June 4, 2010 (Board Order 1684, 75 F.R. 34097, 6/16/10).

FTZ 119 currently consists of 6 “sites”' totaling 4,624 acres in the Minneapolis area. The current update does not alter the physical boundaries that have previously been approved, but instead involves an administrative renumbering that separates certain non-contiguous sites for record-keeping purposes.Under this revision, the site list for FTZ 119 will be as follows: Site 1 (3,002 acres, 500-acre activation limit)--consists of the Minneapolis-St. Paul International Airport; Site 2 (960 acres)--Mid-City Industrial Park; Site 3 (13 acres) located at 3703 Kennebec Drive, Eagan, Minneapolis, within the Eagan Industrial Park; Site 7 (193 acres)--Chaska Bio-Science Corporate Campus, located at the intersection of Carver County Road 10 and New U.S. Highway 212, Chaska (sunset provision - June 30, 2017); Site 8 (200 acres)--Elk Run Bio-Business Park, located on the north side of U.S. Highway 52, approximately 2 miles southeast of the City of Pine Island (sunset provision - June 30, 2017); Site 9 (20 acres)--located at 1700 Wynne Avenue, St. Paul, Minnesota (expires 5/31/2012); and, Site 10 (236 acres)--within the Bloomington Airport Industrial Park.

For further information, contact Elizabeth Whiteman at Elizabeth.Whiteman@trade.gov or (202) 482-0473.

Dated: July 30, 2010.
Andrew McGilvray,
Executive Secretary.

[FR Doc. 2010-19453 Filed 8-5-10; 8:45 am]

BILLING CODE 3510-DS-S